FEDERAL MINE SAFETY AND HEALTH REVIEW COMMISSION

Sunshine Act Meeting

October 12, 2004.

Time and Date: 10 a.m., Tuesday, October 19, 2004.

Place: The Richard V. Backley Hearing Room, 9th Floor, 601 New Jersey Avenue, NW., Washington, DC.

Status: Open.

Matters to be Considered: The Commission will consider and act upon the following in open session:

Secretary of Labor on behalf of Mark Gray v. North Star Mining, Inc., Docket No. KENT 2001-23-D. (Issues include whether the issue presented by the Secretary's petition for discretionary review was sufficiently raised before the administration law judge so as to be preserved for review; and whether an operator's threats to a miner were coercive and violated section 105(c) of the Federal Mine Safety and Health Act of 1977, 30 U.S.C. 815(c)(2).)

Any person attending this meeting who requires special accessibility features and/or auxiliary aids, such as sign language interpreters, must inform the Commission in advance of those needs. Subject to 29 CFR 2706.150(a)(3) and 2706.160(d).

FOR FURTHER INFORMATION CONTACT: Jean Ellen, (202) 434-9950/(202) 708-9300 for TDD Relay/1-800-877-8339 for toll free.

Jean H. Ellen,
Chief Docket Clerk.

[FR Doc. 04-23629 Filed 10-18-04; 3:46 pm]

BILLING CODE 6735-01-M